ENVIRONMENTAL PROTECTION AGENCY

[ER-FRL-6683-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060292, ERP No. D-SFW-K99035-CA, Orange County Southern Subregion Habitat Conservation Plan (HCP), Implementation, Application for and Incidental Take Permit, Orange County, CA.

Summary: EPA expressed environmental concerns about air quality impacts and water-related issues.

Rating EC2.

EIS No. 20060423, ERP No. D-MMS-L02033-AK, Chukchi Sea Planning Area Oil and Gas Lease Sale 193 and Seismic Surveying Activities, Offshore Marine Environment, Chukchi Sea Coastal Plain, and the North Slope Borough of Alaska.

Summary: EPA expressed concerns about environmental justice issues due to adverse effects from multiple, overlapping and fast-tracked development planning processes on local residents and tribes, and requested additional information on human health impacts due to increased oil and gas development. EPA also requested further evaluation of oil spill risk to biological and subsistence resources.

Rating EC2.

EIS No. 20060444, ERP No. D-COE-K36055-CA, San Luis Rey Flood Control Project, Operation and Maintenance of the Vegetation and Sediment Management, from College Blvd to the Pacific Ocean, San Diego County, CA.

Summary: EPA expressed environmental concerns about the potential impacts to waters of the U.S., including wetlands and riparian habitat. EPA recommended evaluation of alternatives that do not propose fill in waters of the U.S., and requested additional analysis to demonstrate compliance with the Clean Water Act Section 404(b)(1) Guidelines.

Rating EC2.

EIS No. 20060480, ERP No. D-BIA-C60006-NY, Oneida Nation of New York Conveyance of Lands into Trust, Proposes to Transfer 17,370 Acre of Fee Land into Federal Trust Status, Oneida, Madison and New York Counties, NY.

Summary: EPA expressed environmental concerns about potential impacts in alternative B associated with the phased acquisition of an additional 17,630 acres.

Rating EC2.

Final EISs

EIS No. 20060482, ERP No. F-FRC-L05234-WA, Priest Rapids Hydroelectric Project, FERC Project #2114-116 Relicensing Application for New License, Columbia River, Grant, Yakima, Kittitas, Douglas, Benton, and Chelan Counties, WA.

Summary: EPA continues to have concerns about the proposed project's potential impacts to water quality due to total dissolved gas and temperature exceedances, and recommended that accountability measures be incorporated into the Clean Water Act Section 401 certification requirements and monitoring plan.

EIS No. 20060485, ERP No. F-NOA-A91072-00, PROGRAMMATIC—Codified Regulations at 50 CFR 300 Subparts A and G Implementing Conservation and Management Measures Adopted by the Commission for the Conservation of Antarctic Marine Living Resources.

Summary: EPA does not object to the proposed action as described in the FEIS.

EIS No. 20060492, ERP No. F-BIA-L61230-OR, Coyote Business Park, Confederated Tribes of the Umatilla Indian Reservation, Proposes to Develop, Build and Manage a Light Industrial Commercial Business Park, Umatilla County, OR.

Summary: EPA's previous concerns have been addressed; therefore, EPA does not object to the proposed action.

Dated: January 9, 2007.
Robert W. Hargrove,
Director, NEPA Compliance Division, Office of Federal Activities.

[FR Doc. E7-345 Filed 1-11-07; 8:45 am]

BILLING CODE 6560-50-P